DEPARTMENT OF DEFENSE

Department of the Army

Performance Review Board Membership

AGENCY: Department of the Army, DoD.

ACTION: Notice.

SUMMARY: Notice is given of the names of members of a Performance Review Board for the Department of the Army.

EFFECTIVE DATE: December 8, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Aviation and Missile Command, U.S. Army Materiel Command are:

1. Ms. L. Marlene Cruze (Chair), Executive Director, Acquisition Center, U.S. Army Aviation and Missile Command.

2. Mr. Michael C. Schexnayder, Associate Director for Systems Missiles, Aviation and Missile Research, Development, and Engineering Center.

3. Mr. John R. Chapman, Executive Director, Integrated Materiel Management Center, U.S. Army Aviation and Missile Command.

4. Mr. Paul Bogosian, Deputy Program Executive Officer, Aviation, Army Acquisition Executive.

5. Mr. William C. Reeves, Jr., Director, Integration/Interoperability for Missile Defense and Assistant to the Deputy Commanding General for Research, Development and Acquisition, U.S. Army Space and Missile Defense Command.

6. Dr. Robin B. Buckelew (Alternate), Director, Missile Guidance. Directorate, Aviation and Missile Research, Development, and Engineering Center.

The members of the Performance Review Board for the U.S. Army Research Laboratory, U.S. Army Materiel Command are:

1. Mr. Michael C. Schexnayder (Chair), Associate Director for Systems Missiles, Aviation and Missile Research, Development, and Engineering Center.

2. Dr. Chine I. Chang, Director, Army Research Office.

3. Dr. Grace M. Bochenek, Vice President for Research, Tank-Automotive Research, Development and Engineering Center.

4. Dr. John A. Parmentola (Alternate), Director for Research and Laboratory Management, Office of the Assistant Secretary of the Army (Acquisition, Logistics and Technology).

5. Dr. James D. Gannt (Alternate), Deputy Director, Computational and Information Sciences Directorate, U.S. Army Research Laboratory.

6. Mrs. Barbara A. Leiby (Alternate), Deputy Chief of Staff for Resource Management, Headquarters, U.S. Army Materiel Command.

The members of the Performance Review Board for the U.S. Army Tank-automotive Command, U.S. Army Materiel Command are:

1. Dr. Richard E. McClelland (Chair), President/Director, U.S. Army Tank-Automotive Research, Development and Engineering Center.

2. Mr. John F. Hedderich, III, Associate Technical Director (Systems Concepts and Technology), Armament Research, Development and Engineering Center.

3. Mr. Michael C. Schexnayder, Associate Director for Systems Missiles, Aviation and Missile Research, Development, and Engineering Center.

4. Mr. Anthony B. Sconyers, Chief Counsel, Procurement and Readiness, U.S. Army Operations Support Command.

The members of the Performance Review Board for the North Atlantic Treaty Organization, Army element are:

1. Mr. Alfred G. Volkman, Director, International Cooperation, Office of the Under Secretary of Defense, Acquisition, Technology and Logistics.

2. Mr. Barry Pavel, Principal Director, Office of the Secretary of Defense.

3. Mr. James Q. Roberts, Principal Director, Special Operations and Combating Terrorism, Office of the Secretary of Defense.

4. Mr. James J. Townsend, Principal Director for European and North Atlantic Treaty Organization Policy.

Luz D. Ortiz,
Army Federal Register Liaison Officer.

[FR Doc. 03-30801 Filed 12-11-03; 8:45 am]

BILLING CODE 3710-08-M